DEPARTMENT OF THE TREASURY

Office of Foreign Assets Control

Notice of OFAC Sanctions Action

AGENCY: Office of Foreign Assets Control, Treasury.

ACTION: Notice.

SUMMARY: The Department of the Treasury's Office of Foreign Assets Control (OFAC) is publishing the names of 7 individuals that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On April 2, 2018, OFAC determined that the property and interests in property subject to U.S. jurisdiction of the following persons are blocked under the relevant sanctions authority listed below.

Individuals

1. AHMAD, Fayyaz (a.k.a. FIAZ, Muhammad; a.k.a. “BAHA'I, Fayad”; a.k.a. “FAIZ, Shaikh”; a.k.a. “FAYAZ, Sheikh”; a.k.a. “FIYAZ, Sheikh”; a.k.a. “FIYYAZ, Sheikh”), Sheikhupura, Pakistan; DOB 05 Dec 1973; POB Sheikhupura, Pakistan; Gender Male (individual) [SDGT] (Linked To: LASHKAR E-TAYYIBA). Designated pursuant to section 1(c) of Executive Order 13224 of September 23, 2001, “Blocking Property and Prohibiting Transactions With Persons Who Commit, Threaten to Commit, or Support Terrorism” (E.O. 13224) for acting for or on behalf of, LASHKAR-E TAYYIBA, an entity determined to be subject to E.O. 13224.

2. DAR, Muhammad Harris (a.k.a. HARIS, Muhammad), Faisalabad, Pakistan; DOB 16 Jan 1986; POB Faisalabad, Pakistan; Gender Male; Identification Number 3310030015409 (Pakistan) (individual) [SDGT] (Linked To: LASHKAR E-TAYYIBA). Designated pursuant to section 1(c) of Executive Order 13224 of September 23, 2001, “Blocking Property and Prohibiting Transactions With Persons Who Commit, Threaten to Commit, or Support Terrorism” (E.O. 13224) for acting for or on behalf of, LASHKAR-E TAYYIBA, an entity determined to be subject to E.O. 13224.

3. EHSAN, Muhammad (a.k.a. AHSAN, Muhammad; a.k.a. IHSAN, Muhammad; a.k.a. “ULLAH, Ehsan”); Islamabad, Pakistan; DOB 1970; alt. DOB 1971; alt. DOB 1972; POB Sialkot, Pakistan; Gender Male (individual) [SDGT] (Linked To: LASHKAR E-TAYYIBA). Designated pursuant to section 1(c) of Executive Order 13224 of September 23, 2001, “Blocking Property and Prohibiting Transactions With Persons Who Commit, Threaten to Commit, or Support Terrorism” (E.O. 13224) for acting for or on behalf of, LASHKAR-E TAYYIBA, an entity determined to be subject to E.O. 13224.

4. HASHIMI, Muzammil Iqbal (a.k.a. HASHMI, Muzammil Iqbal; a.k.a. “SAHIB, Hashmi”), Pakistan; DOB 1969; alt. DOB 1970; alt. DOB 1971; Gender Male (individual) [SDGT] (Linked To: LASHKAR E-TAYYIBA). Designated pursuant to section 1(c) of Executive Order 13224 of September 23, 2001, “Blocking Property and Prohibiting Transactions With Persons Who Commit, Threaten to Commit, or Support Terrorism” (E.O. 13224) for acting for or on behalf of, LASHKAR-E TAYYIBA, an entity determined to be subject to E.O. 13224.

5. KHALID, Saifullah, Lahore, Pakistan; DOB 1968; POB Kasur, Pakistan; citizen Pakistan; Gender Male (individual) [SDGT] (Linked To: LASHKAR E-TAYYIBA). Designated pursuant to section 1(c) of Executive Order 13224 of September 23, 2001, “Blocking Property and Prohibiting Transactions With Persons Who Commit, Threaten to Commit, or Support Terrorism” (E.O. 13224) for acting for or on behalf of, LASHKAR-E TAYYIBA, an entity determined to be subject to E.O. 13224.

6. NADEEM, Faisal (a.k.a. NADIM, Faisal), Sanghar, Pakistan; DOB 03 May 1970; Gender Male (individual) [SDGT] (Linked To: LASHKAR E-TAYYIBA). Designated pursuant to section 1(c) of Executive Order 13224 of September 23, 2001, “Blocking Property and Prohibiting Transactions With Persons Who Commit, Threaten to Commit, or Support Terrorism” (E.O. 13224) for acting for or on behalf of, LASHKAR-E TAYYIBA, an entity determined to be subject to E.O. 13224.

7. QAYYUUM, Tabish (a.k.a. QAYYUM, Muhammad Tabish Abdul; a.k.a. “TABISH, Abdul Rahman Salar”), Karachi, Pakistan; DOB 09 Apr 1983; Gender Male (individual) [SDGT] (Linked To: LASHKAR E-TAYYIBA). Designated pursuant to section 1(c) of Executive Order 13224 of September 23, 2001, “Blocking Property and Prohibiting Transactions With Persons Who Commit, Threaten to Commit, or Support Terrorism” (E.O. 13224) for acting for or on behalf of, LASHKAR-E TAYYIBA, an entity determined to be subject to E.O. 13224.

Dated: April 2, 2018.
Andrea Gacki,
Acting Director, Office of Foreign Assets Control.

[FR Doc. 2018-07012 Filed 4-5-18; 8:45 am]

BILLING CODE 4810-AL-P